DEPARTMENT OF HEALTH AND HUMAN SERVICES

Administration for Children and Families

Statement of Organization, Functions, and Delegations of Authority

AGENCY: Administration for Children and Families, HHS.

ACTION: Notice.

SUMMARY: The Administration for Children and Families (ACF) has reorganized the Office of Administration (OA). This reorganization creates a new Office of the Chief Technology Officer (CTO). It will transfer the administration of the Public Assistance Reporting Information System (PARIS) and the coordination of Multi-Program Advance Planning Document (APD) approvals from the Office of Planning, Research, and Evaluation (OPRE) to the new CTO.

FOR FURTHER INFORMATION CONTACT: Ben Goldhaber, Deputy Assistant Secretary for Administration, Office of Administration, 330 C St. SW, Washington, DC 20201, (202) 795-7790.

SUPPLEMENTARY INFORMATION: This notice amends Part K of the Statement of Organization, Functions, and Delegations of Authority of the Department of Health and Human Services (HHS), Administration for Children and Families (ACF), as follows: Chapter KP, Office of the Deputy Assistant Secretary for Administration (ODASA), as last amended at 83 FR 43585 through 43586 (July 17, 2020) and Chapter KM, OPRE, as last amended 81 FR 41308 through 41310 (June 24, 2016).

I. Under Chapter KP, Office of the Deputy Assistant Secretary for Administration, delete section KP.10 Organization in its entirety and replace with the following:

KP.10 Organization. The Office of the Deputy Assistant Secretary for Administration is headed by the Deputy Assistant Secretary for Administration (DASA) who reports to the Assistant Secretary for Children and Families. The office is organized as follows:

• Office of the Deputy Assistant Secretary for Administration (KPA)

• Office of Transformation, Business, and Management (KPA)

• Office of Grants Policy (KPC)

• Office of Grants Management (KPG)

• Office of Diversity Management and Equal Employment Opportunity (KPH)

• Office of the Chief Technology Officer (KPI)

• Office of Government Contracting Services (KPA)

II. Under Chapter KP, Office of the Deputy Assistant Secretary for Administration, delete section KP.20 Functions in its entirety and replace with the following:

KP.20 Functions

A. The Office of the Deputy Assistant Secretary for Administration (ODASA) directs and coordinates all administrative activities for the Administration for Children and Families (ACF). The DASA serves as ACF's Chief Financial Officer; Chief Grants Management Officer; Federal Manager's Financial Integrity Act (FMFIA) Management Control Officer; Deputy Ethics Counselor; Personnel Security Representative; and Reports Clearance Officer. The DASA serves as the ACF liaison to the Office of the General Counsel and, as appropriate, initiates action in securing resolution of legal matters relating to management of the agency and represents the Assistant Secretary on all administrative litigation matters. The DASA represents the Assistant Secretary in HHS and with other federal agencies and task forces in defining objectives and priorities, and in coordinating activities associated with federal reform initiatives. ODASA provides leadership of assigned ACF special initiatives arising from Departmental, federal, and non-federal directives to improve service delivery to customers. The DASA provides day-to-day executive leadership and direction to the Office of the Deputy Assistant Secretary (ODAS), Office of Grants Policy (OGP), Office of Grants Management (OGM), Office of Diversity Management and Equal Employment Opportunity (ODME), Office of the Chief Information Officer (OCIO), and the Office of Government Contracting Services (OGCS). The ODASA consists of the Associate Deputy Assistant Secretary for Administration, who provides executive leadership and direction to the Office of Transformation, Business, and Management, and the Chief of Staff.

B. The Office of Transformation, Business, and Management (TBM) directs and coordinates administrative activities for ACF and the ODASA, as well as provides leadership of special initiatives to improve service delivery to customers. The Office supports the DASA in fulfilling ACF's Chief Financial Officer and FMFIA Management Control Officer responsibilities and conducts Enterprise Risk Management and Program Integrity activities across ACF. The Office provides cross-cutting services to support ACF's human capital management, including organizational and employee development activities; facility, safety, security, and emergency management activities; and activities to support the DASA's role as Deputy Ethics Counselor. TBM carries out cross-cutting activities to improve ACF service delivery, including business process engineering and data analytics. The Office manages operations for the ODASA, including human capital management, travel management, management operations, and administration and budget functions.

C. The Office of Grants Policy (OGP) provides agency-wide guidance to program and regional office staff on grant related issues, including developing and interpreting grants policy, coordinating strategic grants planning, facilitating policy advisory groups, and ensuring consistent grant program announcements. The Office prepares, coordinates, and disseminates action transmittals, information memoranda, and other policy guidance on grants management issues; provides grants administration technical assistance to ACF staff; and directs and/or coordinates management initiatives to improve financial administration of ACF mandatory and discretionary grant programs. OGP develops and administers grants management training for ACF program and grants staff and administers grants management certification for ACF grants staff. The Office serves as the centralized receipt point for grant applications, performs initial application qualification reviews, provides standard guidance and training to ACF staff on recruiting grant reviewers and conducting grant panel reviews, and oversees logistical support for program-led objective reviews.

D. The Office of Grants Management (OGM), led by the Associate Deputy Assistant Secretary for Grants, supports the DASA in fulfilling ACF's Chief Grants Management Officer Responsibilities. The Office serves as the principal office within ACF for ensuring the business and financial responsibilities of grants administration are carried out. OGM provides direct administration and management of ACF discretionary, formula, entitlement, and block grants; directs all grants and cooperative agreements awarded by ACF and ensures compliance with applicable statutes, regulations, and policies; and performs audit resolutions. The Office provides leadership and technical guidance to ACF program and regional offices on grant operations and grants management issues. OGM interprets and implements financial policies, regulations, legislation, and appropriations law, and secures resolution of legal matters relating to grants administration and management. The Office coordinates with OGP on crosscutting issues. OGM provides agency-wide leadership and guidance to program officials and staff on grants management related issues, including assisting in developing, implementing, and evaluating program plans, strategies, regulations, program announcements, guidelines, and procedures applicable to ACF discretionary, formula, entitlement, and block grant programs. The Office provides oversight and direction in the establishment of appropriate state and grantee allocations. OGM is responsible for directing the receipt and review of all competitive grant applications; developing proposals and/or coordinating management initiatives to improve the efficiency of both the financial administration and awarding of ACF discretionary, formula, entitlement, and block grant programs; and developing procedures for the monitoring and review of ACF grant programs. The Office serves as the lead for ACF in coordination and liaison with the Department, regional offices, and other federal agencies on grants administration and management.

E. The Office of Government Contracting Services (OGCS) serves as ACF's centralized contracting office. OGCS analyzes ACF's mission needs to determine how best to utilize procured services to achieve the agency's strategic goals. The Office prepares annual acquisition strategies and specific acquisition plans, conducts market research, prepares documentation, and provides centralized coordination and review to support ACF contract awards. OGCS manages ACF's acquisition certification training programs and serves as the central point of contact for the ACF acquisition workforce. OGCS develops guidance and procedures and ensures compliance with applicable regulations, rules, and policies.

F. The Office of the Chief Technology Officer (CTO) serves to provide leadership and strategic direction on technology and innovation delivery at ACF as well as directly oversees ACF Office of the Chief Information Officer to align ACF's forward-leaning technology with its data and technology services. CTO is comprised of the Digital Service at ACF division, the administration of the PARIS, the coordination of Multi-Program APD approvals, and the ACF OCIO.

Digital Service at ACF works to transform and improve the U.S. human services ecosystem by modernizing information technology systems, improving the design and delivery of human services, and delivering value to the government stakeholders, human service providers, grantees, and consumers of ACF's services.

The mission of OCIO is to obtain, procure, or develop cost effective and efficient information technology (IT) solutions that enable ACF's staff and grantees to successfully fulfill programmatic missions that result in the realization of the ACF vision. The OCIO implements IT strategies, policies, and governance frameworks to improve the efficiency and performance of ACF's IT systems that support ACF business processes in a manner that balances risk and cost with required outcomes, while ensuring compliance with all federal statutes and regulations. OCIO has ACF-wide responsibility for the direction and development of ACF's IT acquisition strategy, planning analysis and approval, management of IT investments both pre-award and post-award, and leadership of key technology initiatives. The OCIO provides oversight and guidance on the use of business process reengineering, performance measurement, and continuous process improvement in the development, operation, and application of information systems and infrastructure. The OCIO manages cross-organizational stakeholder relations to maintain a flexible and adaptive IT posture that supports a resilient risk management approach to IT security and privacy. The OCIO creates policies to provide improved management of information resources and technology to more efficiently and effectively service ACF's internal and external clients and ACF employees. The OCIO will identify the appropriate continuing education for staff in the domain of records management, IT security and privacy, and incident response protocols.

III. Under Chapter KM, OPRE, delete in its entirety and replace with the following: KM.00 MISSION. OPRE is the principal advisor to the Assistant Secretary for Children and Families on improving the effectiveness and efficiency of programs designed to make measurable improvements in the economic and social well-being of children and families. OPRE provides guidance, analysis, technical assistance, and oversight to ACF programs and across programs in the agency on strategic planning aimed at measurable results; performance measurement and management; research and evaluation methodologies; demonstration testing and model development; statistical policy and program analysis; synthesis and dissemination of research, evaluation, and demonstration findings; data science; data governance; data use, re-use, and integration; data ethics; data sharing, privacy, and confidentiality; and application of emerging technologies to improve the effectiveness of programs and service delivery.

OPRE, through the Division of Economic Independence, the Division of Child and Family Development, the Division of Family Strengthening, and the Division of Data and Improvement, oversees and manages the research and evaluation programs under sections 413, 429, 511, 1110, and 2008 of the Social Security Act and section 649 of the Head Start Act, as well as other research, evaluation, data, and improvement activities authorized by Congress and related to ACF programs and the populations they serve. These activities include priority setting and analysis; managing and coordinating major cross-cutting, leading-edge studies, and special initiatives; and collaborating with federal partners, states, communities, foundations, professional organizations, and others to promote the safety, well-being, and development of children, families, and communities; parental responsibility; employment; and economic independence.

OPRE also provides coordination and leadership in implementing the Government Performance and Results Act, Modernization Act, the Paperwork Reduction Act, the Information Quality Act, and the Foundations for Evidence-Based Policymaking Act and provides expert advice on matters related to data use and reuse, privacy and confidentiality, and the sharing of information. The Office coordinates mandated OMB information collection approvals and plans and includes ACF's Reports Clearance Officer.

KM.10 Organization. OPRE is headed by a Deputy Assistant Secretary, who reports to the Assistant Secretary for Children and Families. The Office is organized as follows:

• Office of the Deputy Assistant Secretary (KMA)

• Division of Economic Independence (KMB)

• Division of Child and Family Development (KMC)

• Division of Family Strengthening (KMD)

• Division of Data and Improvement (KME)

KM.20 Functions

A. The Office of the Deputy Assistant Secretary provides direction and executive leadership to OPRE in administering its responsibilities. It serves as principal advisor to the Assistant Secretary for Children and Families on all matters pertaining to improving the effectiveness and efficiency of ACF programs; strategic planning; performance measurement and management; research, evaluation, statistical, and analysis methods; program and policy evaluation; research and demonstrations; state and local innovations and progress; synthesis and dissemination of research and evaluation findings; supports ACF programs in responsibly managing and using data to improve the effectiveness, equity, and efficiency of human services programs; and application of emerging technologies to improve the effectiveness of programs and service delivery. It represents the Assistant Secretary for Children and Families at various planning, research, evaluation, data, and improvement forums and carries out special Departmental and Administration initiatives.

The Office of the Deputy Assistant Secretary manages the formulation and execution of budgets for OPRE programs; manages correspondence; coordinates the provision of staff development and training; provides support for OPRE's personnel administration, including staffing, employee and labor relations, performance management, and employee recognition; manages OPRE space, facilities, and supplies; and overseas travel, time and attendance, and other administrative functions for OPRE.

B. The Division of Economic Independence, in cooperation with ACF income support programs and others, works with federal counterparts, states, community agencies, and the private sector to understand and overcome barriers to economic independence; promotes parental responsibility; and assists in improving the effectiveness of programs that further economic independence. The Division provides guidance, analysis, technical assistance, and oversight in ACF on strategic planning and performance measurement for economic independence; statistical, policy, and program analysis; surveys, research, and evaluation methodologies; demonstration testing and model development; synthesis and dissemination of research and evaluation findings; and application of emerging technologies to programs that promote employment, parental responsibility, and economic independence.

The Division develops policy-relevant research priorities; conducts, manages, and coordinates major cross-program, leading-edge research, demonstrations, and evaluation studies; manages and conducts statistical, policy, and program analyses on trends in employment, child support payments, and other income supports; and works in partnership with states, communities, and the private sector to promote employment, parental responsibility, and family economic independence. Division staff also provides consultation, coordination, direction, and support for research and evaluation activities related to employment, parental responsibility, and family economic independence across ACF programs.

C. The Division of Child and Family Development, in cooperation with ACF programs and others, works with federal counterparts, states, community agencies, and the private sector to improve the effectiveness and efficiency of programs and foster safety and sound growth and development of children and their families. The Division provides guidance, analysis, technical assistance, and oversight in ACF on strategic planning and performance measurement for child and family development; statistical, policy, and program analysis; surveys, research, and evaluation methodologies; demonstration testing and model development; synthesis and dissemination of research and evaluation findings; and application of emerging technologies to improve the effectiveness of programs and service delivery. The Division conducts, manages, and coordinates major cross-programs, leading-edge research, demonstration and evaluation studies; develops policy-relevant research priorities; and manages and conducts statistical, policy, and program analyses related to children and families. Division staff also provides consultation, coordination, direction, and support for research and evaluation activities related to children and families across ACF programs.

D. The Division of Family Strengthening, in cooperation with ACF programs and others, works with federal counterparts, states, community agencies, and the private sector to improve the effectiveness and efficiency of programs; fosters the safety, positive growth and development of children, youth, parents, and vulnerable populations; and strengthens families.

The Division provides guidance, analysis, technical assistance, and oversight in ACF on parent, child, youth and family development and dynamics; child safety; statistical, policy and program analysis; surveys, research, and evaluation methodologies; demonstration testing and model development; synthesis and dissemination of research and evaluation findings; and application of emerging technologies to improve the effectiveness of programs and service delivery.

The Division conducts, manages, and coordinates major cross-program, leading-edge research, demonstration, and evaluation studies; develops policy-relevant research priorities; and manages and conducts statistical, policy, and program analyses related to strengthening families. Division staff also provides consultation, coordination, direction, and support for research and evaluation activities related to strengthening families across ACF programs.

E. The Division of Data and Improvement supports ACF programs in responsibly managing and using data to improve the effectiveness, equity, and efficiency of human services programs. The Division works with ACF programs and, in cooperation with ACF programs and others, works with federal counterparts, states, community agencies, and the private sector to improve the effectiveness, efficiency, and equity of programs through improved management and use of data.

Division staff provide guidance, analysis, technical assistance, and oversight on strategic planning and performance measurement; data governance; data ethics; statistical, policy, and program analysis; continuous improvement; surveys, data collection, and analysis methodologies; application of data analyses to program operations and decision-making; application of emerging technologies to improve the effectiveness of programs and service delivery; data sharing, privacy, and confidentiality; and data skill development.

The Division coordinates and provides consultation, direction, and support for ACF data governance activities; conducts demonstrations and develops tools, policies, and procedures that support the increased accessibility and reuse of administrative and survey data for statistical purposes; conducts, manages, and coordinates major cross-program, leading-edge research, demonstration, and evaluation studies related to responsible data management and use; develops policy-relevant priorities for data collection and analysis; manages and conducts statistical, policy, and program analyses; and provides consultation, coordination, direction, and support for research and evaluation activities related to responsible data management and use. The Division provides leadership and guidance to interagency work groups in these areas for the Department.

IV. Continuation of Policy. Except as inconsistent with this reorganization, all statements of policy and interpretations with respect to organizational components affected by this notice within ACF, heretofore issued and in effect on this date of this reorganization are continued in full force and effect.

V. Delegation of Authority. All delegations and redelegations of authority made to officials and employees of affected organizational components will continue in them or their successors pending further redelegations, provided they are consistent with this reorganization.

VI. Funds, Personnel, and Equipment. Transfer of organizations and functions affected by this reorganization shall be accompanied in each instance by direct and support funds, positions, personnel, records, equipment, supplies, and other resources.

This reorganization will be effective upon date of signature.

January Contreras,
Assistant Secretary, Administration for Children and Families.

[FR Doc. 2022-24421 Filed 11-8-22; 8:45 am]

BILLING CODE 4184-01-P